DEPARTMENT OF HOMELAND SECURITY

Federal Emergency Management Agency

44 CFR Part 65

[Docket ID FEMA-2011-0002; Internal Agency Docket No. FEMA-B-1181]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Idaho:
Ada | Unincorporated areas of Ada County (10-10-0128P) | Oct. 25, 2010, Nov. 1, 2010, The Idaho Statesman | Mr. Fred Tilman, Chairman, Ada County Board of Commissioners, Ada County Courthouse, 200 West Front Street, 3rd Floor, Boise, ID 83702 | March 1, 2011 | 160001
Ada | City of Meridian (10-10-0128P) | Oct. 25, 2010, Nov. 1, 2010, The Idaho Statesman | The Honorable Tammy de Weerd, Mayor, City of Meridian, 33 East Broadway Avenue, Suite 300, Meridian, ID 83642 | March 1, 2011 | 160180
Illinois:
DuPage | Village of Woodridge (10-05-5743P) | Nov. 25, 2010, Dec 2, 2010, The Bugle Newspaper | The Honorable William F. Murphy, Mayor, Village of Woodridge, 5 Plaza Drive, Woodridge, IL 60517 | November 12, 2010 | 170737
Will | Village of Bolingbrook (10-05-5743P) | Nov. 25, 2010, Dec. 2, 2010, The Bugle Newspaper | The Honorable Roger C. Claar, Mayor, Village of Bolingbrook, 375 West Briarcliff Road, Bolingbrook, IL 60440 | November 12, 2010 | 170812
DuPage | Unincorporated areas of DuPage County (10-05-1256P) | Dec. 13, 2010, Dec. 20, 2010, The Daily Herald | Mr. Robert J. Schillerstrom, Chairman, DuPage County Board, Jack T. Knuepfer Administration Building, 421 North County Farm Road, Wheaton, IL 60187 | April 19, 2011 | 170197
DuPage | City of Darien (10-05-1256P) | Dec. 13, 2010, Dec. 20, 2010, The Daily Herald | The Honorable Kathleen A. Weaver, Mayor, City of Darien, 1702 Plainfield Road, Darien, IL 60561 | April 19, 2011 | 170750
Kansas: Johnson | City of Lenexa (10-07-0912P) | Nov. 30, 2010, Dec. 7, 2010, The Legal Record | The Honorable Michael Boehm, Mayor, City of Lenexa, 12350 West 87th Street Parkway, Lenexa, KS 66215 | April 6, 2011 | 200168
Massachusetts:
Bristol | Town of Swansea (10-01-1791P) | Oct. 20, 2010, Oct. 27, 2010, The Spectator | Mr. M. Scott Ventura, Chairman, Board of Selectmen, Swansea Town Hall Annex, 68 Stevens Road, Swansea, MA 02777 | October 4, 2010 | 255221
Bristol | Town of Easton (11-01-0022P) | Nov. 1, 2010, Nov. 8, 2010, The Enterprise News | Mr. David Colton, Town of Easton Administrator, 136 Elm Street, Easton, MA 02356 | October 26, 2010 | 250053
Bristol | Town of Easton (11-01-0021P) | Nov. 15, 2010, Nov. 22, 2010, The Enterprise News | Mr. David Colton, Town of Easton Administrator, 136 Elm Street, Easton, MA 02356 | November 2, 2010 | 250053
Michigan: Bay | Township of Frankenlust (09-05-6111P) | Oct. 7, 2010, Oct. 14, 2010, The Bay City Democrat & The Bay County Legal News | Mr. Ronald Campbell, Township of Frankenlust Supervisor, 2401 Delta Road, Bay City, MI 48706 | February 11, 2011 | 260022
Minnesota:
Olmsted | City of Rochester (10-05-2736P) | Oct. 7, 2010, Oct. 14, 2010, The Rochester Post-Bulletin | The Honorable Ardell F. Brede, Mayor, City of Rochester, 201 4th Street Southeast, Room 281, Rochester, MN 55904 | February 11, 2011 | 275246
Olmsted | Unincorporated areas of Olmsted County (10-05-2736P) | Oct. 7, 2010, Oct. 14, 2010, The Rochester Post-Bulletin | Mr. Richard G. Delvin, Olmsted County Administrator, 151 Southeast 4th Street, Rochester, MN 55904 | February 11, 2011 | 270626
Anoka | City of Centerville (10-05-2774P) | Oct. 27, 2010, Nov. 10, 2010, The Citizen | The Honorable Mary Capra, Mayor, City of Centerville, 1880 Main Street, Centerville, MN 55038 | March 10, 2011 | 270008
Missouri:
Phelps | City of Rolla (10-07-0319P) | Dec. 13, 2010, Dec. 20, 2010, The Rolla Daily News | The Honorable William S. Jenks, III, Mayor, City of Rolla, 901 North Elm Street, Rolla, MO 65401 | April 19, 2011 | 290285
St. Charles | Unincorporated areas of St. Charles County (10-07-1774P) | December 15, 2010, Dec. 22, 2010, The Suburban Journals of St., Charles County | Mr. Steve Ehlmann, St. Charles County Executive, 100 North 3rd Street, St. Charles, MO 63301 | December 1, 2010 | 290315
St. Charles | City of St. Peters (10-07-1774P) | Dec. 15, 2010, Dec. 22, 2010, The Suburban Journals of St. Charles County | The Honorable Len Pagano, Mayor, City of St. Peters, 1 St. Peters Centre Boulevard, St. Peters, MO 63376 | December 1, 2010 | 290319
Ohio: Summit | City of Akron (10-05-5693P) | Nov. 29, 2010, Dec. 6, 2010, The Akron Legal News | The Honorable Donald L. Plusquellic, Mayor, City of Akron, 166 South High Street, Room 200, Akron, OH 44308 | December 17, 2010 | 390523
Wisconsin:
Waukesha | City of New Berlin (10-05-2901P) | Oct. 21, 2010, Oct. 28, 2010, My Community Now—Southwest | The Honorable Jack F. Chiovatero, Mayor, City of Berlin, 3805 South Casper Drive, New Berlin, WI 53151 | October 4, 2010 | 550487
Green | Unincorporated areas of Green County (10-05-1296P) | October 21, 2010, Oct. 28, 2010, The Post Messenger Recorder | Mr. Arthur Carter, Chairman, Green County Board, 1016 16th Avenue, Monroe, WI 53566 | February 18, 2011 | 550157
Green | Village of New Glarus (10-05-1296P) | Oct. 21, 2010, Oct. 28, 2010, The Post Messenger Recorder | Mr. Jim Salter, President, Village of New Glarus Board, 319 2nd Street, P.O. Box 399, New Glarus, WI 53574 | February 18, 2011 | 550164
Washington | Unincorporated areas of Washington County (10-05-2489P) | Nov. 9, 2010, Nov. 16, 2010, The West Bend Daily News | Mr. Herbert J. Tennies, Chairperson, Washington County, P.O. Box 1986, 432 East Washington Street, West Bend, WI 53095 | March 16, 2010 | 550471

(Catalog of Federal Domestic Assistance No. 97.022, “Flood Insurance.”)

Dated: March 7, 2011.
Sandra K. Knight,
Deputy Federal Insurance and Mitigation Administrator, Mitigation, Department of Homeland Security, Federal Emergency Management Agency.

[FR Doc. 2011-8853 Filed 4-12-11; 8:45 am]

BILLING CODE 9110-12-P